DEPARTMENT OF THE INTERIOR

National Park Service

Plan of Operations, Categorical Exclusion, Big Thicket National Preserve, TX

AGENCY: National Park Service, Department of the Interior.

ACTION: Notice of Availability of a Plan of Operations and Categorical Exclusion for a 30-day public review at Big Thicket National Preserve.

SUMMARY: Notice is hereby given in accordance with § 9.52(b) of Title 36 of the Code of Federal Regulations, part 9, subpart B, that the National Park Service (NPS) has received from Cimarex Energy Co., a Plan of Operations to conduct the Sour Lake 3-D “Cable-Only” Seismic Survey within the Lance Rosier and Little Pine Island-Pine Island Bayou Corridor Units of Big Thicket National Preserve, in Hardin County, Texas. The NPS has prepared a Categorical Exclusion on this proposal.

DATES: The above documents are available for public review and comment through November 9, 2006.

ADDRESSES: The Plan of Operations and Categorical Exclusion are available for public review and comment at http://parkplanning.nps.gov, and in the Office of the Superintendent, Todd Brindle, Big Thicket National Preserve, 6044 FM 420, Kountze, Texas 77625. Copies of the Plan of Operations and Categorical Exclusion are available upon request from the contact listed below.

FOR FURTHER INFORMATION CONTACT: Mr. Haigler “Dusty” Pate, Oil and Gas Program Manager, Big Thicket National Preserve, 6044 FM 420, Kountze, Texas 77625, Telephone: 409 951-6822, e-mail at Haigler_Pate@nps.gov.

SUPPLEMENTARY INFORMATION: If you wish to comment on the Plan of Operations and Categorical Exclusion, you may mail comments to the name and address above or post comments online at http://parkplanning.nps.gov/. The documents will be on public review for 30 days. Our practice is to make comments, including names, home addresses, home phone numbers, and e-mail addresses of respondents, available for public review. Individual respondents may request that we withhold their names and/or home addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives of or officials of organizations or businesses, available for public inspection in their entirety.

Dated: August 1, 2006.
Michael D. Snyder,
Director, Intermountain Region, National Park Service.

[FR Doc. E6-16689 Filed 10-6-06; 8:45 am]

BILLING CODE 4312-CB-P